DEPARTMENT OF HEALTH AND HUMAN SERVICES

Centers for Disease Control and Prevention

[60Day-07-06BS]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

OWCD Professional Training Program Online Application System—New—The Office of Workforce and Career Development (OWCD), Centers for Disease Control and Prevention (CDC).

Background and Brief Description

The mission of the Career Development Division (CDD), Office of Workforce and Career Development (OWCD), is to prepare an applied public health workforce through training and service. Professionals in public health, epidemiology, medicine, economics, information science, veterinary medicine, nursing, public policy and other related professions seek opportunities to broaden their knowledge and skills to improve the science and practice of public health. Each year CDC's professional training programs accept applications from potential candidates for review and selection.

The purpose of this project is to efficiently and effectively recruit and select qualified individuals to participate in the CDD professional training programs by collecting information through an online application management system.

This online application provides the CDD with the information necessary to recruit qualified professionals to participate in public health professions training programs to build critical public health workforce capacity in epidemiology, preventive medicine, prevention effectiveness/health economics, public health informatics, and public health management and leadership. Further benefit from this online application is the reduction of duplicate candidate records as well as agency resources to administer and process paper records.

The application process includes the following: Submission of the responses to the questions in the online application; submission of academic transcripts, professional credentials, and letters of recommendation; a review by selected programmatic staff and expert panel members; selection of qualified candidates for interview; interview of candidates; and selection of trainees for programs.

The online application questions ask for demographic data, academic history, professional experience, references and description of professional goals. The application questions and data collected are necessary to the application process to determine programmatic eligibility and to ensure that the most highly qualified candidates are chosen for the training programs.

With the exception of their time, the cost to the candidates is minor. One expense depends on their academic institutions since they must obtain and submit all their academic transcripts. Another expense depends on the cost to obtain and submit other professional credentials including professional licenses and certifications. The final expense is the cost to submit letters of recommendation.

Estimated Annualized Burden Hours
Respondents | Number of respondents | Responses per respondent | Average burden per response | Total burden (in hours)
Fellowship and Training Candidates | 600 | 1 | 1 | 600

Dated: October 23, 2006.
Joan F. Karr,
Acting Reports Clearance Officer, Centers for Disease Control and Prevention.

[FR Doc. E6-18011 Filed 10-26-06; 8:45 am]

BILLING CODE 4163-18-P